ENVIRONMENTAL PROTECTION AGENCY

[EPA-HQ-OW-2008-0553; FRL-8913-6]

Notice of Availability of National Recommended Water Quality Criteria for Acrolein and Phenol

AGENCY: Environmental Protection Agency (EPA).

ACTION: Notice of availability of updated water quality criteria for acrolein and phenol.

SUMMARY: Pursuant to section 304(a) of the Clean Water Act (CWA), the Environmental Protection Agency (EPA) is announcing the availability of updated national recommended water quality criteria for the protection of human health for acrolein and phenol. These criteria are based on EPA's Methodology for Deriving Ambient Water Quality Criteria for the Protection of Human Health (2000), EPA-822-B-00-004 (2000 Human Health Methodology) and supercede criteria for these chemicals previously published by EPA. EPA's recommended section 304(a) water quality criteria are guidance to States and authorized Tribes in adopting water quality standards for protecting human health and provide guidance to EPA for promulgating Federal regulations under CWA section 303(c), when such action is necessary.

ADDRESSES: Copies of documents specifically referenced in this notice are in Docket ID No. EPA-HQ-OW-2008-0553. Materials in the public docket are available for public viewing at the Water Docket in the EPA Docket Center, (EPA/DC) EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the Office of Water Docket is (202) 566-2426. A reasonable fee will be charged for copies. An electronic version of the public docket is available through EPA's electronic public docket and comment system at http://www.regulations.gov. Once in the system, select “search,” then key in the appropriate docket identification number.

FOR FURTHER INFORMATION CONTACT: Heidi L. Bethel, Health and Ecological Criteria Division (4304T), U.S. EPA, Ariel Rios Building, 1200 Pennsylvania Ave., NW., Washington, DC 20460; (202) 566-2054; bethel.heidi@epa.gov.

SUPPLEMENTARY INFORMATION:

I. General Information

A. Interested Entities

Entities potentially interested in today's notice are those that produce, use, or regulate acrolein or phenol. Categories and entities interested in today's notice include:

Category | Examples of interested entities
States, Authorized Tribes and Jurisdictional Governments. | NPDES Authorized States, Tribes and Jurisdictions.
Industry | Industries discharging pollutants to surface waters or to publically-owned treatment works discharging pollutants to surface waters.
Municipalities | Publically-owned treatment works discharging pollutants to surface waters.

This table is not intended to be exhaustive, but rather provides a guide for readers regarding entities likely to be interested in this notice. This table lists the types of entities that EPA is now aware could potentially be interested in this notice. Other types of entities not listed in the table could also be interested.

B. How Can I Get Copies of the National Recommended Water Quality Criteria for the Protection of Human Health and Other Related Information?

1. Docket. EPA established an official public docket for this notice under Docket ID No. EPA-HQ-OW-2008-0553. The official public docket consists of the documents specifically referenced in this notice, any public scientific views received, and other information related to this announcement. Although a part of the official docket, the public docket does not include Confidential Business Information (CBI) or other information whose disclosure is restricted by statute. The official public docket is the collection of materials that is available for public viewing at the Water Docket in the EPA Docket Center, (EPA/DC) EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the Office of Water Docket is (202) 566-2426. A reasonable fee will be charged for copies.

2. Electronic Access. You may access this Federal Register document electronically through the EPA Internet under the “Federal Register” listings at http://www.epa.gov/fedrgstr/. An electronic version of the public docket is available through EPA's electronic public docket and comment system. You may access EPA Dockets at https://www.regulations.gov to access the index listing of the contents of the official public docket, and to access those documents in the public docket that are available electronically. Although not all docket materials may be available electronically, you may still access any of the publicly available docket materials through the docket facility identified in section B.1. Once in the system, select “search,” then key in the appropriate docket identification number.

II. Background Information

A. What Are Human Health Water Quality Criteria?

Human health water quality criteria are numeric values that describe ambient water concentrations that protect human health from the harmful effects of pollutants in ambient water. These criteria are developed under CWA section 304(a) and are based solely on data and scientific judgments about the relationship between pollutant concentrations and environmental and human health effects. Human health water quality criteria do not reflect consideration of economic impacts or the technological feasibility of meeting the chemical concentrations in ambient water. CWA section 304(a)(1) requires EPA to develop and publish and, from time to time, revise criteria for water quality that accurately reflect the latest scientific knowledge. EPA's recommended section 304(a) water quality criteria provide guidance to States and authorized Tribes in adopting water quality standards for protection of human health. The criteria also provide guidance to EPA when promulgating Federal regulations under CWA section 303(c), when such action is necessary. They do not substitute for the CWA or regulations, nor are they regulations themselves. Thus, EPA's recommended criteria do not impose legally binding requirements. States and authorized Tribes have the discretion to adopt, where appropriate, other scientifically defensible water quality standards that may differ from these recommendations and reflect State-specific circumstances.

B. What Are the Criteria Revisions?

Today, EPA is publishing an update of national recommended water quality criteria (NRWQC) for protecting human health for acrolein and phenol. Information regarding these criteria updates was published in a Federal Register (FR) Notice (73 FR 53246; September 15, 2008) announcing the availability of the draft criteria for acrolein and phenol. In that notice, information on how to submit scientific views on the criteria updates was also provided. The FR Notice contained information regarding the criteria revision process; the relationship between the water quality criteria and State or Tribal water quality standards; the status of existing recommended criteria while criteria are under revision; and the location of additional information about water quality criteria and water quality standards.

These criteria are based on EPA's Methodology for Deriving Ambient Water Quality Criteria for the Protection of Human Health (2000), EPA-822-B-00-004 (2000 Human Health Methodology). This methodology describes the Agency's current approach for deriving national recommended water quality criteria to protect human health.

The revision of these criteria represents a partial update of the 304(a) criteria as described in the FR Notice that accompanied the 2000 Human Health Methodology (65 FR 66443; November 3, 2000). EPA believes that updating a limited number of components for which there are available data or improved science (i.e., a partial update) is a reasonable and efficient means of publishing revised 304(a) criteria more frequently. EPA has also previously described its process for publishing revised criteria [see National Recommended Water Quality Criteria; Notice; Republication (63 FR 68354; December 10, 1998 or EPA 822-Z-99-001) and National Recommended Water Quality Criteria; Notice; Republication; Correction (64 FR 19781; April 22, 1999) or the Federal Register Notice for the 2000 Methodology]. EPA indicated that when making minor revisions to existing criteria based on new information pertaining to individual components of the criteria, it would typically publish the recalculated criteria directly as the Agency's national recommended water quality criteria.

The criteria for acrolein and phenol are being updated with reference dose (RfD) values from EPA's Integrated Risk Information System (IRIS) (http://www.epa.gov/iris). No other components of the criteria calculation have changed. Because recalculation of these two criteria resulted in significant changes, EPA published them in draft form in the Federal Register (73 FR 53246; September 15, 2008) and accepted scientific views for 45 days. However, EPA did not intend to subject this recalculation to additional peer review because the IRIS reference doses being updated in this partial criteria update have been previously peer reviewed. EPA did not receive any scientific views on these revisions. Therefore, these criteria are being published as final and will supersede any criteria previously published for acrolein and phenol by EPA. The criteria being published are listed in the tables below along with the updated IRIS values which are being changed. In the Federal Register Notice (73 FR 53246; September 15, 2008) announcing the draft criteria revisions for acrolein and phenol, EPA inadvertently failed to follow the Agency's 2000 Human Health Methodology when rounding two of the criteria values for phenol. The guidance specifies that the number of significant figures at the end of the criterion calculation should be rounded to the number of significant figures in the least precise input parameter for the calculation. The correct values have been included in the tables below:

Table 1—Final National ­Recommended Water Quality Criteria for Acrolein
Acrolein | Updated criteria
IRIS RfD | 0.0005 mg/(kg-d) (published 6/03) (http://www.epa.gov/ncea/iris/subst/0364.htm)
Water + Organisms | 6 μg/l
Organisms Only | 9 μg/l

Table 2—Final National ­Recommended Water Quality Criteria for Phenol
Phenol | Updated criteria
IRIS RfD | 0.30 mg/(kg-d) (published 9/02) (http://www.epa.gov/ncea/iris/subst/0088.htm)
Water + Organisms | 10,000 μg/l
Organisms Only | 860,000 μg/l

Dated: May 27, 2009.
Ephraim S. King,
Director, Office of Science and Technology.

[FR Doc. E9-13600 Filed 6-9-09; 8:45 am]

BILLING CODE 6560-50-P